DEPARTMENT OF TRANSPORTATION

Federal Highway Administration

Notice of Final Federal Agency Actions on the Chesapeake Bay Crossing Study Tier 1 Environmental Impact Statement (EIS) in Maryland

AGENCY: Federal Highway Administration (FHWA), Department of Transportation (DOT).

ACTION: Notice of limitation on claims for judicial review of actions by FHWA.

SUMMARY: This notice announces actions taken by FHWA that are final. These actions relate to the Chesapeake Bay Crossing Study: Tier 1 NEPA (Bay Crossing Study) conducted to identify a corridor for a new crossing of the Chesapeake Bay in Maryland. The public is advised that FHWA issued a Record of Decision (ROD) which concludes the Tier 1 Bay Crossing Study. The ROD is combined with the Bay Crossing Study Tier 1 Final Environmental Impact Statement (EIS) prepared by FHWA and the Maryland Transportation Authority (MDTA).

DATES: By this notice, FHWA is advising the public of final agency actions subject to 23 U.S.C. 139(l)(1). A claim seeking judicial review of the Federal agency actions on the Tier 1 Bay Crossing Study will be barred unless the claim is filed on or before September 26, 2022. If the Federal law that authorizes judicial review of a claim provides a time period of less than 150 days for filing such claim, then that shorter time period still applies.

ADDRESSES: The Tier 1 Bay Crossing Study Final EIS and ROD is available online at www.baycrossingstudy.com. Hard copies of the Tier 1 Bay Crossing Study Final EIS and ROD are also available at the following libraries during normal library hours from April 29, 2022 to May 31, 2022: Broadneck Library, 1275 Green Holly Drive, Annapolis, MD 21409, 410-222-1905; Centreville Branch, 121 South Commerce Street, Centreville, MD 21617, 410-758-0890; Chestertown Branch, Kent County Public Library, 408 High Street, Chestertown, MD 21620, 410-778-3636; Crofton Library, 1681 Riedel Road, Crofton, MD 21114, 410-222-7915; Deale Library, 5940 Deale-Churchton Road, Deale, MD 20751, 410-222-1925; Easton Library, 100 W Dover St., Easton, MD 21601, 410-822-1626; Edgewater Library, 25 Stepneys Lane, Edgewater, MD 21037, 410-222-1538; Kent Island Branch, 200 Library Circle, Stevensville, MD 21666, 410-643-8161; Michael E. Busch Annapolis Library, 1410 West Street, Annapolis, MD 21401, 410-222-1750; Mountain Road Library, 4730 Mountain Road, Pasadena, MD 21122, 410-222-6699; Severna Park Library, 45 West McKinsey Road, Severna Park, MD 21146, 410-222-6290; St. Michaels Library, 106 Fremont Street, St. Michaels, MD 21663, 410-745-5877; and Twin Beaches Branch, 3819 Harbor Road, Chesapeake Beach, MD 20732, 410-257-2411.

FOR FURTHER INFORMATION CONTACT: For FHWA, Ms. Jeanette Mar, Environmental Program Manager, Maryland Division, Federal Highway Administration, George H. Fallon Building, 31 Hopkins Plaza, Suite 1520, Baltimore, Maryland 21201, Email: jeanette.mar@dot.gov, telephone: (410) 779-7152. Regular office hours are from 8 a.m. to 5 p.m. (Eastern Time), Monday through Friday, except for Federal holidays. For MDTA, Ms. Heather Lowe, Project Manager, Maryland Transportation Authority, Division of Planning and Program Development, 2310 Broening Highway, Baltimore, Maryland 21224, Email: hlowe@mdta.state.md.us, telephone: (410) 537-5665. Regular office hours are from 8 a.m. to 5 p.m. (Eastern Time), Monday through Friday. Project information can be obtained from the project website at: www.baycrossingstudy.com.

SUPPLEMENTARY INFORMATION: Notice is hereby given that FHWA and the MDTA, in cooperation with the U.S. Army Corps of Engineers, U.S. Environmental Protection Agency, U.S. Coast Guard, National Marine Fisheries Service, Maryland Department of the Environment, Maryland Department of Natural Resources, and the Maryland Department of Transportation State Highway Administration prepared a Tier 1 Bay Crossing Study EIS in accordance with the National Environmental Policy Act (NEPA); the Council on Environmental Quality regulations implementing NEPA (40 CFR parts 1500 through 1508), FHWA's regulations implementing NEPA (23 CFR part 771), and Section 4(f) (23 CFR part 774). The Tier 1 Bay Crossing Study considered corridors for providing additional capacity and access across the Chesapeake Bay in order to improve mobility, travel reliability, and safety at the existing William Preston Lane, Jr. Memorial (Bay) Bridge. The Tier 1 Bay Crossing Study evaluated potential new corridor alternatives, including an assessment of existing and potentially expanded transportation infrastructure needed to support additional capacity, improve travel times, and accommodate maintenance activities, while considering financial viability and environmental responsibility. The Tier 1 Bay Crossing Study EIS identified Corridor 7 as the Preferred Corridor Alternative that best meets the Tier 1 Study Purpose and Need. FHWA concurred with the selection of Corridor 7 and issued a ROD for the Tier 1 Bay Crossing Study EIS on April 14, 2022. The ROD, together with the Tier 1 Bay Crossing Study EIS pursuant to 49 U.S.C. 304a(b), 23 U.S.C. 139(n)(2), and 23 CFR 771.124, identifies and discusses all such factors that FHWA and MDTA balanced in making the decision for the Tier 1 EIS study. The ROD concludes the Tier 1 NEPA process by formally selecting Corridor 7 as the Selected Corridor Alternative that would advance into a future Tier 2 NEPA study.

The Selected Corridor Alternative, Corridor 7, is a two-mile wide corridor that follows the existing road network along US 50/301 from west of the Severn River on the Western Shore of the Chesapeake Bay to the US 50/301 split on the Eastern Shore. This location includes the existing William Preston Lane Jr. Memorial (Bay) Bridge. The analysis of traffic, engineering, cost, and environmental considerations indicated that Corridor 7 would have substantial advantages over the other Corridor Alternatives Retained for Analysis (CARA), Corridors 6 and 8. The selected alternative identifies the general (corridor) location for future improvements. The specific alignment of a potential new crossing has not been defined in the Tier 1 Bay Crossing Study. The FHWA and MDTA would need to complete a Tier 2 NEPA engineering and environmental study before any construction could occur.

The actions by FHWA on this study, and the laws under which such actions were taken, are described in the combined Tier 1 Final EIS and ROD and in other documents completed as part of the study. The Tier 1 Final EIS and ROD and other documents related to study approvals are available on the Bay Crossing Study website provided in the ADDRESSES section of this notice, or by contacting FHWA or MDTA at the addresses provided in the FOR FURTHER INFORMATION CONTACT section of this notice.

This notice applies to all Federal agency decisions as of the issuance date of this notice, and all laws under which such actions were taken, including but not limited to:

1. General: National Environmental Policy Act (NEPA) [42 U.S.C. 4321-4351]; Federal-Aid Highway Act [23 U.S.C. 109, 23 U.S.C. 128, and 23 U.S.C. 139].

2. Air: Clean Air Act [42 U.S.C. 7401-7671(q)].

3. Land: Section 6(f) of the Land and Water Conservation Fund Act of 1965 [16 U.S.C. 4601]; Section 4(f) of the Department of Transportation Act of 1966 [49 U.S.C. 303]; Farmland Protection Policy Act [7 U.S.C. 4201-4209].

4. Wildlife: Endangered Species Act [16 U.S.C. 1531-1544 and Section 1536]; Fish and Wildlife Coordination Act [16 U.S.C. 661-667(d)]; Migratory Bird Treaty Act [16 U.S.C. 703-712].

5. Historic and Cultural Resources: Section 106 of the National Historic Preservation Act of 1966 [54 U.S.C. 306108].

6. Social and Economic: Civil Rights Act of 1964 [42 U.S.C. 2000(d)-2000(d)(1)]; Uniform Relocation Assistance and Real Property Acquisition Act of 1970 [42 U.S.C. 61].

7. Wetlands and Water Resources: Clean Water Act [33 U.S.C. 1251-1376].

8. Hazardous Materials: Comprehensive Environmental Response, Compensation, and Liability Act [42 U.S.C. 9601-9675].

9. Executive Orders: E.O. 11514 Protection and Enhancement of Environmental Quality; E.O. 11988 Floodplain Management; E.O. 11990 Protection of Wetlands; E.O. 12898 Federal Actions to Address Environmental Justice in Minority Populations and Low-Income Populations; E.O. 13112 Invasive Species; E.O. 13175 Consultation and Coordination with Indian Tribal Governments; E.O. 13186 Responsibilities of Federal Agencies to Protect Migratory Birds.

(Catalog of Federal Domestic Assistance Program Number 20.205, Highway Planning and Construction. The regulations implementing Executive Order 12372 regarding intergovernmental consultation on Federal programs and activities apply to this program.)

Authority: 23 U.S.C. 139(l)(1).

Issued on: April 22, 2022.
Gregory Murrill,
Division Administrator, Baltimore, Maryland.

[FR Doc. 2022-09150 Filed 4-28-22; 8:45 am]

BILLING CODE 4910-RY-P